Title 3—

The President

Proclamation 10253 of September 10, 2021

National Small Business Week, 2021

By the President of the United States of America

A Proclamation

The American entrepreneurial spirit is a defining quality of our Nation which time and again has lifted us to new heights and carried us through our greatest challenges. Small businesses are not only the engines of our economic progress—they are the heart and soul of our communities. During National Small Business Week, we celebrate our Nation's small businesses—the pillars of their neighborhoods and towns—and all of the people who dream them, build them, and make them run.

When the COVID-19 pandemic first struck last year, it posed a historic challenge to America's small businesses. From coast to coast, in big cities, small towns, rural enclaves, and Tribal communities, small business owners and workers demonstrated remarkable courage and resilience, adapting to sudden changes in our way of life and stepping up to serve their communities. Across the country, small businesses extended helping hands to their neighbors during the pandemic's darkest hours, all while entrepreneurs and employees worked tirelessly around the clock to keep their businesses afloat, make payroll, and ensure the safety of their teams and customers.

Despite the determination of our Nation's small business owners and their employees, the pandemic hit them hard. Throughout 2020, empty storefronts and goodbye signs hanging in windows could be found on Main Streets across the country. The pizza place that your kids loved best. The hardware store that always had the tool you needed. The barber shop that sponsored the local Little League team—and had the first dollar bill it ever earned still framed on the wall. The pandemic exacted an incalculable toll not only on lives and livelihoods, but on far too many small business dreams and family legacies.

To ensure that these community pillars have a fighting chance to reopen and stay open, my Administration is delivering the loans and support that our Nation's more than 30 million small businesses and innovative startups need. The American Rescue Plan delivered billions of dollars in economic relief to millions of small businesses—including programs targeted to the hardest-hit industries such as restaurants and performing arts venues. We revamped the Paycheck Protection Program to reach our smallest businesses, with more than 95 percent of the nearly $300 billion in loans made during my Administration supporting small businesses with less than 20 employees, reaching a higher share of businesses in rural and low- or moderate-income communities than in the previous two rounds of the program. Through our Restaurant Revitalization Fund, we provided an essential lifeline to more than 100,000 businesses across the country, delivering $28.6 billion in direct support. Last week, my Administration began accepting applications for an improved COVID-19 Economic Injury Disaster Loan program, which will put more than $150 billion in funding to work offering long-term, low-interest loans that small businesses can use to retain workers, make rent, and pay down more expensive debt. In the American Rescue Plan, we established the Community Navigator Pilot program to create a network of trusted organizations, local governments, and community champions to help underserved small businesses navigate resources at all stages of their growth.

We have also fully vaccinated more than 64 percent of adult Americans, so that more small businesses can reopen their doors and welcome back their customers. My Administration created a tax credit to help small businesses—which employ nearly half of America's private workforce—give their employees paid time off to get vaccinated and recover.

My Administration is also committed to nurturing small businesses that have faced historic barriers in rural and urban America, including businesses owned by veterans, women, and people of color—especially Black, Latino, and Asian American businesses. These entrepreneurs continue to face persistent barriers to the capital, markets, and networks they need to start and grow their businesses, and many were left out of early rounds of relief in the earlier days of the pandemic.

To help ensure that small businesses in every community benefit from the Build Back Better agenda's landmark investments in our infrastructure, we are strengthening our contracting programs for underserved small businesses. As part of this effort, I announced a Government-wide goal to grow Federal contracting with small, disadvantaged businesses by 50 percent, translating into an additional $100 billion over 5 years. By ensuring that more disadvantaged small businesses can compete for and win Federal contracts, we can boost job opportunities and economic prosperity in every corner of America.

Our Nation's small businesses define our communities, drive innovation, and create the products and services that enrich our lives and solve global problems to build a better and more sustainable world. By harnessing the power of our small business economy and equipping our entrepreneurs with the tools and resources they need to innovate, adapt, and grow, our economy will continue to build back better than ever before. America's small businesses are up to the task.

NOW, THEREFORE, I, JOSEPH R. BIDEN JR., President of the United States of America, by virtue of the authority vested in me by the Constitution and the laws of the United States, do hereby proclaim September 12 to September 18 as National Small Business Week. I call upon all Americans to recognize the contributions of small businesses to the American economy, continue supporting them, and honor the occasion with programs and activities that highlight these important businesses.

IN WITNESS WHEREOF, I have hereunto set my hand this tenth day of September, in the year of our Lord two thousand twenty-one, and of the Independence of the United States of America the two hundred and forty-sixth.

[FR Doc. 2021-20031

Filed 9-14-21; 8:45 am]

Billing code 3295-F1-P